DEPARTMENT OF LABOR

Employment and Training Administration

[TA-W-65,197]

Republic Doors and Frames, Inc., McKenzie, TN; Notice of Termination of Investigation

In accordance with Section 221 of the Trade Act of 1974, as amended, an investigation was initiated on February 10, 2009 in response to a petition filed by a Tennessee State AFL-CIO representative on behalf of workers of Republic Doors and Frames, Inc., McKenzie, Tennessee.

The petitioner has requested that the petition be withdrawn. Consequently, the investigation has been terminated.

Signed in Washington, DC, this 23rd day of March 2009.
Richard Church,
Certifying Officer, Division of Trade Adjustment Assistance.

[FR Doc. E9-8279 Filed 4-10-09; 8:45 am]

BILLING CODE 4510-FN-P